SECURITIES AND EXCHANGE COMMISSION

[SEC File No. 270-646, OMB Control No. 3235-0695]

Proposed Collection; Comment Request; Extension: Rule 17Ad-22

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) is soliciting comments on the existing collection of information provided for in Rule 17Ad-22 (17 CFR 240.17Ad-22) under the Securities Exchange Act of 1934 (“Exchange Act”) (15 U.S.C. 78a et seq.). The Commission plans to submit this existing collection of information to the Office of Management and Budget (“OMB”) for extension and approval.

Rule 17Ad-22 was adopted to strengthen the substantive regulation of clearing agencies, promote the safe and reliable operation of covered clearing agencies, and improve efficiency, transparency, and access to covered clearing agencies.¹ Rule 17Ad-22, which consists of paragraphs (a)(1) through (e)(23), requires a registered clearing agency to establish, implement, maintain and enforce written policies and procedures reasonably designed to address a number of topics, including governance, operations, and risk management. In particular, Rule 17Ad-22(e) includes requirements for covered clearing agencies, defined as registered clearing agencies that provide the services of a central counterparty or central securities depository; Rule 17Ad-22(d) includes requirements for all registered clearing agencies that are not covered clearing agencies; and Rules 17Ad-22(b) and (c) include certain other requirements for clearing agencies that perform central counterparty services. The total estimated annual time burden of Rule 17Ad-22 is 8,532 hours, and the total estimated annual cost burden is $14,041,280.

¹ See 17 CFR 240.17Ad-22; see also Exchange Act Release No. 34-68080 (Oct. 22, 2012), 77 FR 66219, 66225-26 (Nov. 2, 2012).

Written comments are invited on: (a) whether the proposed collection of information is necessary for the proper performance of the functions of the Commission, including whether the information will have practical utility; (b) the accuracy of the Commission staff's estimates of the burden of the proposed collection of information; (c) ways to enhance the quality, utility, and clarity of the information collected; and (d) ways to minimize the burden of the collection of information on respondents, including through the use of automated collection techniques or other forms of information technology. Consideration will be given to comments and suggestions submitted by January 3, 2023.

An agency may not conduct or sponsor, and a person is not required to respond to, a collection of information under the PRA unless it displays a currently valid OMB control number.

Please direct your written comments to: David Bottom, Director/Chief Information Officer, Securities and Exchange Commission, c/o John Pezzullo, 100 F Street NE, Washington, DC 20549, or send an email to: PRA_Mailbox@sec.gov.

Dated: October 28, 2022.
Sherry R. Haywood,
Assistant Secretary.

[FR Doc. 2022-23874 Filed 11-2-22; 8:45 am]

BILLING CODE 8011-01-P